ENVIRONMENTAL PROTECTION AGENCY

[FRL-6573-2]

Public Meeting To Discuss Infrastructure Issues Associated With Alternative-Fueled Vehicles

AGENCY: Environmental Protection Agency (EPA).

ACTION: Notice of public meeting.

SUMMARY: The Environmental Protection Agency (EPA) intends to hold a public workshop to discuss issues associated with alternative fueled vehicles (AFV's) (i.e. vehicles powered by fuels other than gasoline). The purpose of this workshop is to facilitate an exchange of information focusing on issues relating to infrastructure development and creating a sustainable market for AFV's. Members of the public are invited to attend as observers as well as to participate in the discussion.

DATES: The EPA Infrastructure Workshop will be held in San Diego, California on May 10, 2000, from 12:30 to 4:30 p.m. (The date and location were selected to coordinate with the Department of Energy's National Clean Cities Conference which begins May 7, in San Diego).

ADDRESSES: Questions about the workshop should be addressed to: Barry Garelick (202-564-9028; garelick.barry@epa.gov) 401 M Street, SW. (6406J), Washington, DC. (20460) or Sally Newstead (734-214-4474; newstead.sally@epa.gov) 2000 Traverwood Dr., Ann Arbor, MI (48105). The workshop will be held at the US Grant Hotel, 326 Broadway, San Diego, CA, 92101, 800-334-6957 or 619-232-3121. The workshop registration form can be down loaded from the alternative fuels website: http://www.epa.gov/otaq/consumer/fuels/altfuels/altfuels.htm.

FOR FURTHER INFORMATION CONTACT: Barry Garelick (202) 546-9028 or Sally Newstead (734) 214-4474.

SUPPLEMENTARY INFORMATION: As this Administration has long recognized, one of the keys to moving forward environmentally is moving forward technologically. Progress towards sustainable reductions in emissions from the mobile source sector is inextricably linked to technological advancement. Motor vehicles are significant contributors to ground-level ozone, the principal harmful ingredient in smog. They also emit other pollutants, including particulate matter and air toxics, and motor vehicle emissions contribute to public health problems such as asthma and other respiratory problems.

The rise in vehicle sales and vehicle miles traveled each year has consistently led to increases in the aggregate emissions from the mobile source sector despite progress in reducing emissions from gasoline-powered, convention motor vehicles. This places increasing importance on technological developments, including vehicles powered by fuels other than gasoline. There are a number of types of alternative fuel vehicles (AFV's) in production and under development. In the United States, manufacturers are already selling various types of AFV's including vehicles powered by electricity, compresses natural gas, methanol and ethanol. The last year has also seen dramatic developments in hybrid-electric vehicle and fuel cell technology.

EPA has noted that the development of a sustainable market for AFV's is a key component of any plan to achieve the air quality gains that are possible from the use of AFV's; developing the infrastructure necessary for AFV's is an important part in developing that sustainable market. For example, drivers may be reluctant to purchase electric vehicles if they have concerns about the availability of recharging stations. EPA believes that the solutions to infrastructure development needs can be found by a variety of stakeholders working together to identify useful steps that might best be taken by working in partnership with each other.

At this workshop, the Agency's intent is to gather other Administration officials (both environmental and purchasing agent), auto and utility industry representatives, environmentalists, and other interested parties. In addition to providing a opportunity to briefly discuss the barriers that limit development, it will provide a forum to begin the process of defining “next steps” that public and private sector parties can exercise in overcoming the barriers to developing an alternative fuels infrastructure. Issues to be explored include: (1) What sectors of vehicles should be targeted for an alternative fuels infrastructure (i.e., heavy-duty vs light-duty;) (2) what will be the effect of Tier 2 standards on alternative fuel vehicles; (3) what market incentives and legislative actions that have worked well and are “transferable”. Additionally, EPA is interested in learning what programs have been successful in promoting the use of alternative fuel vehicles.

This workshop is intended to be the type of workshop that the northeastern states and the auto industry had tentatively agreed to in the ATV Agreement in the National LEV MOU that was never finalized.¹ EPA believed that the ATV agreement would have been a productive way of creating a sustainable market for AFV's through cooperative working relationships. The Agency intends that the workshop will draw on the expertise of the northeastern states and other areas (such as California). EPA also welcomes the participation by other states. Anyone with suggestions for this workshop should contact Barry Garelick at 202/546-9028.

¹ In the negotiations between the northeastern states and the auto industry on EPA's National Low Emission Vehicle (NLEV) program, the states and the auto industry had tentatively agreed to a process to facilitate discussion on the creation of a sustainable market for advanced technology vehicles (ATV Agreement). (This tentative ATV Agreement was to be included in a Memorandum of Understanding (MOU) that was to form the basis for the NLEV program, but the ATV Agreement was not intended to be included in the NLEV regulations. However, the parties ended discussions and decided not to finalize the MOU, which would have contained the ATV agreement.)

Dated: March 30, 2000.
Margo T. Oge,
Office Director for Office of Transportation and Air Quality, Office of Air and Radiation.

[FR Doc. 00-8540 Filed 4-5-00; 8:45 am]

BILLING CODE 6560-50-P